ENVIRONMENTAL PROTECTION AGENCY

[FRL-7211-1]

Proposed Addition of a New System of Record

AGENCY: Environmental Protection Agency (EPA).

ACTION: Notice.

SUMMARY: The Environmental Protection Agency (EPA) is proposing to create a Privacy Act System of record.

SUPPLEMENTARY INFORMATION: The Child Care Tuition Assistance Program. This pilot program was created as the result of Public Law 107-67, Section 630, which allowed executive agencies to use appropriated funds to provide child care services for Federal civilian employees. The purpose of the records maintained in this system is to establish and verify EPA employee eligibility for child care subsidies to provide monetary assistance to them.

EPA-49

System Name:

Child Care Tuition Assistance Program Records.

Security Classification:

None.

System Location:

U.S. Environmental Protection Agency/Office of Human Resources and Organizational Services/Employee Services Staff, MC: 3611, Washington, DC 20460.

Categories of Individuals Covered by the System:

(1) Current employees of the Environmental Protection Agency who voluntarily apply for a child care subsidy, their spouses, and children who are enrolled in a licensed Federal and non-Federal center, and licensed home-based care.

(2) Child-care providers of these employees.

Categories of Records in the System:

The information collected will include the employee's name, spouse's name, employee's title, grade, home and work telephone numbers, home and work addresses, the organization in which the employee works, the employee's social security number, the spouse's social security number, the employee's tax returns, the spouse's tax returns, the name and social security number of the child on whose behalf the parent is applying for a subsidy, the child's date of birth, the date of entry into the Child Care Subsidy Program, and the amount of subsidy received; the name, address, telephone number, employer identification number (EIN), license and accreditation status of the child care center in which the employee's child(ren) is (are) enrolled, and the dates of attendance.

Authority for Maintenance of the System:

Public Law 107-67, Section 630 and Executive Order 9397.

Purpose(s):

The primary use of the records maintained in this system is to establish and verify Environmental Protection Agency employee's eligibility for child care subsidies in order to provide monetary assistance to them. Other uses of the records in the system include verifying the eligibility of child care and verifying compliance with regulations.

Routine Uses of Records Maintained in the System, Including Categories of Users and the Purposes of Such Uses:

General routine uses applicable to more than one system includes: A; E; F; H; J, as stated in the guidelines for preparing notice for a system of records under the Privacy Act.

Policies and Practices for Storing, Retrieving, Accessing, Retaining, and Disposing of Records in the System:

Storage:

Records are stored both in file folders, and in electronic form, in computer systems.

Retrievability:

Records are retrieved by the names, regional location and social security numbers of employees applying for child care subsidies.

Safeguards:

Access to records in the system is limited to authorized personnel whose official duties require such access. Paper records are maintained in locked metal file cabinets and/or in secured rooms. Electronic records are password-protected and maintained with safeguards meeting the security requirements of 40 CFR 16.10—Disclosure of record to person(s) other than the individual to whom it pertains.

Retention and Disposal:

Records are retained and disposed of in accordance with National Archives and Records Administration guidelines.

System Manager(s) and Address:

National Program Manager/Office of Human Resources and Organizational Services, U.S. Environmental Protection Agency, MC:3611, Washington, DC 20460.

Notification Procedures:

Inquiries regarding the existence of records contained in the system should be addressed to the System Manager. The request must be in writing, signed by the requester, include the requester's full name and social security number, and must meet the content requirements of 40 CFR 16.3—Procedures for requests pertaining to individual records in a record system.

Record Access Procedures:

A request for access to records contained in the system should be addressed to the System Manager. The request must be in writing, signed by the requester, include the requester's full name and social security number, and meet the content requirements of 40 CFR 16.3—Procedures for requests pertaining to individual records in a record system.

Contesting Records Procedures:

A petition for amendment for records contained in the system should be addressed to the System Manager. The request must be in writing, signed by the requester, include the requester's full name and Social Security Number, and meet the content requirements of 40 CFR 16.7—Request for correction or amendment of record.

Record Source Categories:

Applications for child care subsidies and supporting records, which are voluntarily submitted by EPA employees applying for child care subsidies.

System Exempted From Certain Provisions of the Act:

None.

Dated: May 10, 2002.
Kim Nelson,
Assistant Administrator and Chief Information Officer.

[FR Doc. 02-12769 Filed 5-21-02; 8:45 am]

BILLING CODE 6560-50-P